DEPARTMENT OF TRANSPORTATION

Federal Railroad Administration

Petitions for Waivers of Compliance

In accordance with Title 49 Code of Federal Regulations (CFR) § 211.41, and 49 U.S.C. 20103, notice is hereby given that the Federal Railroad Administration (FRA) has received a request for waiver of compliance with certain requirements of the Federal railroad safety regulations. The individual petition is described below, including the party seeking relief, the regulatory provisions involved, and the nature of the relief being sought.

Maryland Mass Transit Administration (“MTA”)

[FRA Waiver Petition No. FRA-2000-7054]

The Maryland Mass Transit Administration (“MTA”) seeks a permanent waiver of compliance from certain CFR parts of Title 49, specifically: part 210, Railroad Noise Emission Compliance Regulations; part 213, Track Safety Standards; part 214, Railroad Workplace Safety Standards; part 215, Railroad Freight Car Safety Standards; part 217, Railroad Operating Rules; part 218, Railroad Operating Practices; part 219, Control of Alcohol and Drug Use; part 220, Railroad Communications; part 221, Rear End Marking Devices; part 223, Safety Gazing Standards—Locomotives, Passenger Cars and Cabooses; part 225, Railroad Accidents/Incidents—Report Classification, and Investigations; part 229, Railroad Locomotive Safety Standards; part 320, Locomotive Inspection; part 231 Railroad Safety Appliance Standards; part 232, Railroad Power Brakes and Drawbars; part 233, Signal Systems Reporting Requirements; part 234, Grade Crossing Signal System Safety; part 235, Instructions Governing Applications for Approval of a Discontinuance or Material Modification of a Signal System or Relief From the Requirements of Part 236; part 236, Rules, Standards and Instructions Governing the Installation, Inspection, Maintenance and Repair of Signal and Train Control Systems, Devices and Appliances, part 238, Passenger Equipment Safety Standards; part 239, Passenger Train Emergency Preparedness; and part 240, Qualification and Certification of Locomotive Engineers.

MTA has also petitioned for grandfathering approval to operate its equipment under 49 CFR 238.203. Notice of that petition has already been published in the Federal Register at 65 FR 14336 (March 16, 2000).

MTA seeks approval of shared track usage and waiver of certain FRA regulations involving light rail passenger operations on the same track with freight trains. FRA has jurisdiction over the portion of the MTA that it is connected to the general railroad system of transportation. Specifically, certain portions of the MTA Central Light Rail Line (CLRL) rail lines are used for freight rail carrier service. The freight operator, Norfolk Southern Corporation (NS), conducts operations on the CRCL under temporal or spatial separation. See Statement of Agency Policy Concerning Jurisdiction Over the Safety of Railroad Passenger Operations and Waivers Related to Shared Use of the Tracks of the General Railroad System by Light Rail and Conventional Equipment at 65 FR 42529 (July 10, 2000). See also Joint Statement of Agency Policy Concerning Shared Use of the Tracks of the General Railroad System by Conventional Railroads and Light Rail Transit Systems at 65 FR 42626 (July 10, 2000).

Since FRA has not yet concluded its investigation of the MTA's petition, the agency takes no position at this time on the merits of MTA's stated justifications. As part of FRA's review of the petition, the Federal Transit Administration will appoint a representative to advise FRA's Safety Board, and that person will participate in the board's consideration of MTA's waiver petition.

All communications concerning these proceedings should identify the appropriate docket number (Docket Number FRA 2000-7054) and must be submitted to the DOT Docket Management Facility, Room PL-401 (Plaza level) 400 Seventh Street, S.W., Washington, D.C. 20590. All documents in the public docket, including MTA's detailed waiver request, are also available for inspection and copying on the Internet at the docket facility's Web site at http://dms.dot.gov. Communications received within 45 days of the date of this notice will be considered by FRA before final action is taken. Comments received after that date will be considered to the extent practicable. All written communications concerning this proceeding are available for examination during regular business hours (9:00 a.m.-5:00 p.m.) at the above facility.

Issued in Washington, D.C. on August 29, 2000.
Grady C. Cothen, Jr.,
Deputy Associate Administrator for Safety Standards and Program Development.

[FR Doc. 00-22532 Filed 8-31-00; 8:45 am]

BILLING CODE 4910-06-P